DEPARTMENT OF AGRICULTURE

Farm Service Agency

[Docket ID FSA-2022-0001]

Information Collection; Measurement Service Records

AGENCY: Farm Service Agency, USDA.

ACTION: Notice; request for comments.

SUMMARY: In accordance with the Paperwork Reduction Act of 1995, the Farm Service Agency (FSA) is requesting comments from all interested individuals and organizations on an extension of a currently approved information collection associated with the Measurement Service Records.

DATES: We will consider comments that we receive by March 25, 2022.

ADDRESSES: We invite you to submit comments on this notice. You may submit comments, identified by Docket ID: FSA-2022-0001, by any of the following methods:

• Federal eRulemaking Portal: Go to http://www.regulations.gov. Follow the online instructions for submitting comments.

• Mail, hand delivery, or courier: Amy Mitchell, Common Provisions Section, Safety Net Division, USDA, FSA, Farm Programs, 1400 Independence Avenue SW, Mail Stop 0517, Washington, DC 20250-0517.

You may also send comments to the Desk Officer for Agriculture, Office of Information and Regulatory Affairs, Office of Management and Budget, Washington, DC 20503. Copies of the information collection may be requested by contacting Amy Mitchell at the above address.

FOR FURTHER INFORMATION CONTACT: Amy Mitchell, telephone: (202) 720-8954; email: amy.mitchell@usda.gov. Persons with disabilities who require alternative mean for communication should contact the USDA's TARGET Center at (202)720-2600 (Voice).

SUPPLEMENTARY INFORMATION:

Description of Information Collection

Title: Measurement Service Records.

OMB Control Number: 0560-0260.

Expiration Date: 05/31/2022.

Type of Request: Extension.

Abstract: When a producer requests a measurement of acreage or production from FSA, the producer uses the form FSA-409 (Measurement Service Record) to make the request, which requires a measurement service fee to be paid to FSA.

The form is manual. The types of measurement service being performed are currently at the Land (Office or Field) and Commodity Bin. Using the FSA-409 to make a request, the producer provides FSA: The farm serial number, program year, farm location, contact person, and type of service request (acreage or production). The measurement policies and procedures are located in 7 CFR part 718. FSA uses the collected information to fulfill producers' measurement request and to ensure that measurements are accurate.

A producer will use the form FSA-409 to request and receive certain measurement information from FSA pertaining to land and crops and such producer can provide such information to FSA at the time of applying for certain program benefits. The information includes, but is not limited to, measuring land and crop areas, quantities of farm-stored commodities, and appraising the yields of crops in the field. There are no changes to the burden hours since the last OMB submission.

For the following estimated total annual burden on respondents, the formula used to calculate the total burden hour is the estimated average time per responses hours multiplied by the estimated total annual responses.

Estimate of Annual Burden: Public reporting burden for the collection of information is estimated to average 15 minutes per response.

Respondents: Producers.

Estimated Number of Respondents: 135,000.

Estimated Number of Responses per Respondent: 1.

Estimated Total Annual of Responses: 135,000.

Estimated Average Time per Response: 15 minutes (0.25).

Estimated Total Annual Burden Hours: 33,750 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Zach Ducheneaux,
Administrator, Farm Service Agency.

[FR Doc. 2022-01191 Filed 1-21-22; 8:45 am]

BILLING CODE 3410-05-P